DEPARTMENT OF ENERGY

Federal Energy Regulatory Commission

[Docket No. RP01-385-000]

USG Pipeline Company; Notice of Compliance Filing

May 1, 2001.

Take notice that on April 23, 2001, USG Pipeline Company (USGPC) tendered for filing as part of its FERC Gas Tariff, Original Volume No. 1, the following revised tariff sheets: First Revised Sheet No. 34, First Revised Sheet No. 52, First Revised Sheet No. 56, and First Revised Sheet No. 71.

USGPC states that the purpose of this filing is to comply with the Commission's Order No. 587-M issued November 30, 2000, in Docket No. RM96-1-015. USGPC states that it proposes to place these revised tariff sheets into effect on May 1, 2001.

USGPC states that complete copies of this filing are being provided to its sole customer, United States Gypsum Company, which receives service as certificated under Part 157 of the Commission's regulations, and to interested state commissions.

Any person desiring to be heard or to protest said filing should file a motion to intervene or protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://ww.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11345 Filed 5-4-01; 8:45 am]

BILLING CODE 6717-01-M